DEPARTMENT OF THE INTERIOR

Bureau of Reclamation

Folsom Dam Road Restricted Access, Folsom, California

AGENCY: Bureau of Reclamation, Interior.

ACTION: Notice of Availability of the Draft Environmental Impact Statement (EIS) and notice of public hearing [DES 04-58].

SUMMARY: Pursuant to the National Environmental Policy Act (NEPA) of 1969 (as amended), the Bureau of Reclamation (Reclamation) has made available for public review and comment a Draft EIS for the Folsom Dam Road Restricted Access action. The Draft EIS describes and presents the environmental effects of the preferred alternative, the no-Action alternative and two additional alternatives. Two public hearings will be held to receive comments from individuals and organizations on the Draft EIS.

DATES: The Draft EIS will be available for a 45-day public review period. Comments are due on January 18, 2005. Two public hearings have been scheduled to receive oral or written comments regarding the project's environmental effects:

• January 4, 2005, 4 p.m. to 8 p.m., Sacramento, CA

• January 5, 2005, 3 p.m. to 9 p.m., Folsom, CA

ADDRESSES: The public hearings will be held at the following locations:

• Sacramento, CA—Tsakopoulos Library Galleria, 828 I Street, Sacramento, CA 95814-2589.

• Folsom, CA—Folsom Community Center West Room, 52 Natoma Street, Folsom, CA 95630.

Send comments on the Draft EIS to Folsom Dam Restricted Access Project, c/o Robert Schroeder, Project Manager, Bureau of Reclamation, Central California Area Office, 7794 Folsom Dam Road, Folsom, CA 95630-1799.

Copies of the Draft EIS may be requested from Ms. Marian Echeverria, Reclamation, 2800 Cottage Way, Sacramento, CA 95825 or by calling 916-978-5105. See SUPPLEMENTARY INFORMATION section for locations where copies of the Draft EIS are available for public inspection.

FOR FURTHER INFORMATION CONTACT: Robert Schroeder, Project Manager, Bureau of Reclamation, at 916-989-7274.

SUPPLEMENTARY INFORMATION: The Draft EIS addresses impacts from continuing indefinitely restricted access across Folsom Dam Road based on security issues and potential disaster flood inundation. The Preferred Action is to continue the closure of Folsom Dam Road. The EIS also addresses a No-Action alternative that would reopen the road to public use similar to pre-2003 conditions, and two additional alternatives that would include restricted Folsom Dam Road access involving combinations of vehicle inspections and restrictions on type and number of vehicles, and time of use. The Draft EIS has identified the key issues to include traffic and circulation, socioeconomics, air quality, and recreation. In addition to the key issues listed above, Reclamation has identified other issue areas which have also been included in the EIS. These include biology, water quality, cultural resources, ground water, water supply, power supply, municipal and industrial land uses, demographics, visual resources, public health, social well-being, power consumption and production, and cumulative effects.

Copies of the Draft EIS are available for public inspection and review at the following locations:

• Sacramento Public Library, 828 I Street, Sacramento, CA 95814

• Folsom Public Library, 900 Persifer Street, Folsom, CA 95630

• U.S. Bureau of Reclamation, Denver Office Library, Building 67, Room 167, Denver Federal Center, 6th and Kipling, Denver, CO 80225; telephone: 303-445-2072

• U.S. Bureau of Reclamation, Office of Public Affairs, 2800 Cottage Way, Sacramento, CA 95825-1898; telephone: 916-978-5100

• Natural Resources Library, U.S. Department of the Interior, 1849 C Street NW., Main Interior Building, Washington, DC 20240-0001

• May be available at other libraries in the project area.

Oral and written comments, including names and home addresses of respondents, will be available for public review. Individual respondents may request that we withhold their home address from public disclosure, which will be honored to the extent allowable by law. There may be circumstances in which a respondent's identity may also be withheld from public disclosure, as allowable by law. If you wish to have your name and/or address withheld, you must state this prominently at the beginning of your comment. All submissions from organizations or businesses, and from individuals identifying themselves as representatives or officials of organizations or businesses, will be made available for public disclosure in their entirety.

Hearing Process Information

The purpose of the public hearing is to provide the public with an opportunity to comment on environmental issues addressed in the Draft EIS. Written comments will also be accepted.

Persons needing special assistance to attend and participate in the public hearing should contact Mr. Robert Schroeder, at 916-989-7274, as soon as possible. In order to allow sufficient time to process requests, please call no later than one week before the public hearing. Information regarding this proposed action is available in alternative formats upon request.

Dated: July 22, 2004.
John F. Davis,
Deputy Regional Director, Mid-Pacific Region.

[FR Doc. 04-26666 Filed 12-2-04; 8:45 am]

BILLING CODE 4310-MN-P